DEPARTMENT OF COMMERCE

Foreign-Trade Zones Board

[B-37-2017]

Foreign-Trade Zone (FTZ) 114—Peoria, Illinois; Notification of Proposed Production Activity; Bell Sports, Inc.; Subzone 114F; (Sports Equipment); Rantoul, Illinois

Bell Sports, Inc. (Bell Sports) submitted a notification of proposed production activity to the FTZ Board for its facility in Rantoul, Illinois, within Subzone 114F. The notification conforming to the requirements of the regulations of the FTZ Board (15 CFR 400.22) was received on May 15, 2017.

Bell Sports already has authority to produce certain sports equipment within Subzone 114F. The current request would add foreign status materials/components to the scope of authority. Pursuant to 15 CFR 400.14(b), additional FTZ authority would be limited to the specific foreign-status materials/components described in the submitted notification (as described below) and subsequently authorized by the FTZ Board.

Production under FTZ procedures could exempt Bell Sports from customs duty payments on the foreign-status materials/components used in export production. On its domestic sales, Bell Sports would be able to choose the duty rates during customs entry procedures that apply to bicycle, motorcycle, football and baseball helmets; bicycle baby seats; bicycle car carrier racks; and, collectible football helmets (duty rates range from free to 10%) for the foreign-status materials/components noted below. Customs duties also could possibly be deferred or reduced on foreign-status production equipment.

The materials/components sourced from abroad include polypropylene webbing for bike helmets, stainless steel pins, aluminum screws, LED lights for bike helmets, and knee and elbow pad sets (duty rates range from 2.5% to 6.2%). The request indicates that the polypropylene webbing for bike helmets (classified under HTSUS 5806.32) will be admitted to the subzone in privileged foreign status (19 CFR 146.41), thereby precluding inverted tariff savings on this item.

Public comment is invited from interested parties. Submissions shall be addressed to the FTZ Board's Executive Secretary at the address below. The closing period for their receipt is July 12, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: May 26, 2017.
Elizabeth Whiteman,
Acting Executive Secretary.

[FR Doc. 2017-11417 Filed 6-1-17; 8:45 am]

BILLING CODE 3510-DS-P